DEPARTMENT OF LABOR

Wage and Hour Division

Agency Information Collection Activities; Comment Request; Report of Construction Contractor's Wage Rates

AGENCY: Wage and Hour Division, Department of Labor.

ACTION: Notice.

SUMMARY: The Department of Labor (the Department) is soliciting comments concerning a proposed revision of the information collection request (ICR) titled “Report of Construction Contractor's Wage Rates,” which describes the WD-10 form and its use in wage surveys to implement the prevailing wage requirements of the Davis-Bacon and Related Acts. The Department is proposing to revise the WD-10 form and create a new WD-10A pre-survey form that will be used to identify potential respondents to the WD-10. This comment request is part of continuing Departmental efforts to reduce paperwork and respondent burden in accordance with the Paperwork Reduction Act of 1995 (PRA). The PRA process helps to ensure that requested data can be provided in the desired format, reporting burden (time and financial resources) is minimized, collection instruments are clearly understood, and the impact of collection requirements on respondents can be properly assessed. A copy of the proposed information collection request can be obtained by contacting the office listed below in the FOR FURTHER INFORMATION CONTACT section of this Notice.

DATES: Written comments must be submitted to the office listed in the ADDRESSES section below on or before August 15, 2022.

ADDRESSES: You may submit comments identified by Control Number 1235-0015, by either one of the following methods: Email: WHDPRAComments@dol.gov; Mail, Hand Delivery, Courier: Division of Regulations, Legislation, and Interpretation, Wage and Hour Division, U.S. Department of Labor, Room S-3502, 200 Constitution Avenue NW, Washington, DC 20210.

Instructions: Please submit one copy of your comments by only one method. All submissions received must include the agency name and Control Number identified above for this information collection. Because we continue to experience delays in receiving mail in the Washington, DC area, commenters are strongly encouraged to transmit their comments electronically via email or to submit them by mail early. Comments, including any personal information provided, become a matter of public record. They will also be summarized and/or included in the request for Office of Management and Budget (OMB) approval of the information collection request.

FOR FURTHER INFORMATION CONTACT: Robert Waterman, Division of Regulations, Legislation, and Interpretation, Wage and Hour Division, U.S. Department of Labor, Room S-3502, 200 Constitution Avenue NW, Washington, DC 20210; telephone: (202) 693-0406 (this is not a toll-free number). Copies of this notice may be obtained in alternative formats (Rich Text Format (RTF) or text format (txt), a thumb drive, an MP3 file, large print, braille, audiotape, compact disc, or other accessible format), upon request, by calling (202) 693-0023 (not a toll-free number). TTY/TTD callers may dial toll-free (877) 889-5627 to obtain information or request materials in alternative formats.

SUPPLEMENTARY INFORMATION:

I. Background: The Davis-Bacon Act (DBA), as enacted in 1931 and subsequently amended, requires the payment of minimum prevailing wages determined by the Department of Labor to laborers and mechanics working on federal contracts in excess of $2,000 for the construction, alteration, or repair, including painting and decorating, of public buildings and public works. See 40 U.S.C. 3141 et seq. Congress has also included the Davis-Bacon requirements in numerous other laws, known as the Davis-Bacon Related Acts (the Related Acts and, collectively with the Davis-Bacon Act, the DBRA), which provide federal assistance for construction projects through grants, loans, loan guarantees, insurance, and other methods.

The DBA delegates to the Secretary of Labor the responsibility to determine the wage rates that are “prevailing” for each classification of covered laborers and mechanics on similar projects “in the civil subdivision of the State in which the work is to be performed.” 40 U.S.C. 3142(b). The Administrator of the Wage and Hour Division, through this delegation of authority, is responsible for issuing these wage determinations (WDs). The DBA implementing regulations provide that, for the purpose of making WDs, the Administrator will conduct a continuing program for obtaining and compiling wage rate information. 29 CFR 1.3. As part of this program, the Administrator developed the WD-10 form to solicit information that is used to determine locally prevailing wages under the Davis-Bacon and Related Acts. The wage-data collection using the WD-10 form is a primary source of information and is essential to the determination of prevailing wages. The current WD-10 information collection, 1235-0015, has been approved by the Office of Management and Budget (OMB) and is currently approved for use through March 2024.

The Department is now proposing changes to the WD-10 form to improve the overall efficiency of the DBA survey process. The proposed changes aim to streamline the collection of data required for the survey and make the collection less burdensome for respondents. The revised WD-10 form, as proposed, contains questions and requests for information that are arranged in a manner that allows respondents to quickly gather and report information necessary for the Wage and Hour Division to properly determine and publish prevailing wage rates. For example, on the proposed WD-10 form, the respondent will no longer be asked to determine a peak week(s) of construction for reported projects, identify the project value, or identify contractors or subcontractors on the project. Additionally, the proposed form uses a “picklist” of labor classifications from which a respondent may choose, rather than requiring the respondent to manually enter the labor classification into an open text field. These proposed changes to the WD-10 form, among others, are designed to increase the ease of participating in a survey and solicit more usable wage data to issue more comprehensive wage determinations.

The Department also proposes to add a new WD-10A collection instrument, which will be a companion form to the WD-10 form. This collection instrument will be used pre-survey to identify potential respondents that performed construction work within the survey period in the survey area, which will enable the Department to solicit for survey participation. This pre-survey information requests will better identify additional contractors that performed construction work in the survey area. A complete listing of the proposed changes to the information collection is posted on the Department's website at: https://www.dol.gov/agencies/whd/government-contracts/construction/surveys/wd10pra.

II. Review Focus: The Department of Labor is particularly interested in comments which:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used;

• Minimize the burden of the collection of information on those who are to respond, including through the use of appropriate automated, electronic, mechanical, or other technological collection techniques or other forms of information technology, e.g., permitting electronic submissions of responses.

III. Current Actions: The Department of Labor seeks approval for a revision of this information collection in order to ensure effective administration of construction contractor wage rate programs.

Type of Review: Revision.

Agency: Wage and Hour Division.

Title: Report of Construction Contractor's Wage Rates.

OMB Control Number: 1235-0015.

Affected Public: Business or other for-profit, Not-for-profit institutions, Federal, State, Local, or Tribal Government.

Agency Numbers: Forms WD-10; WD-10A.

Total Respondents: 3,641.

Total Annual Responses: 21,939.

Estimated Total Burden Hours: 7,161.

Estimated Time per Response: WD-10—20 minutes; WD-10A—10 minutes.

Frequency: On occasion.

Dated: June 10, 2022.
Amy DeBisschop,
Director, Division of Regulations, Legislation, and Interpretation.

[FR Doc. 2022-12918 Filed 6-14-22; 8:45 am]

BILLING CODE 4510-27-P